DEPARTMENT OF ENERGY

Federal Energy Regulatory Commission

[Docket No. CP17-469-000]

WBI Energy Transmission, Inc.; Notice of Schedule for Environmental Review of the Billy Creek Storage Field Abandonment Project

On June 30, 2017, WBI Energy Transmission, Inc. (WBI) filed an application in Docket No. CP17-469-000 requesting a Certificate of Public Convenience and Necessity pursuant to Sections 7(b) and 7(c) of the Natural Gas Act to abandon the Billy Creek Storage Field, and construct certain natural gas facilities to recover the storage field's cushion gas. The proposed project is known as the Billy Creek Storage Field Abandonment Project (Project), and would involve the abandonment of the storage field and related facilities in Johnson County, Wyoming.

On July 17, 2017, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA: February 2, 2018.

90-day Federal Authorization Decision Deadline: May 3, 2018.

If a schedule change becomes necessary, additional notice will be provided so that the relevant agencies are kept informed of the Project's progress.

Project Description

WBI proposes to abandon the Billy Creek Storage Field and related facilities and recover and sell the estimated 2.3 billion cubic feet of cushion gas prior to abandonment of the field. WBI proposes a combination of any of these three options to recover the remaining cushion gas:

1. Utilize and/or modify existing storage field facilities (Option 1);

2. install a temporary 200 horsepower (or less) replacement compressor unit (Option 2); and/or

3. drill one new natural gas recovery well in one of two locations (Option 3).

Following cushion gas withdrawal, WBI would abandon pipeline and aboveground facilities in-place and by removal, including the additional compressor unit and/or recovery well listed in Options 2 and 3. WBI states that the storage field is no longer reliable due to water encroachment and that the firm storage deliverability is now provided by another WBI storage field.

Background

On August 17, 2017, the Commission issued a Notice of Intent to Prepare an Environmental Assessment for the Proposed Billy Creek Storage Field Abandonment Project and Request for Comments on Environmental Issues (NOI). The NOI was sent to affected landowners; federal, state, and local government agencies; elected officials; Native American tribes; and local libraries. In response to the NOI, the Commission received comments from the Wyoming Department of Environmental Quality and the Wyoming Game and Fish Department. The primary issues raised by commentors are impacts on water quality and surface waterbodies, restoration and the development of a reclamation plan, invasive species prevention and mitigation, and applicable permits.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC Web site (www.ferc.gov). Using the eLibrary link, select General Search from the eLibrary menu, enter the selected date range and Docket Number excluding the last three digits (i.e., CP17-469), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: November 29, 2017.
Kimberly D. Bose,
Secretary.

[FR Doc. 2017-26137 Filed 12-4-17; 8:45 am]

BILLING CODE 6717-01-P